NUCLEAR REGULATORY COMMISSION

[Docket No. 70-3103; NRC-2010-0264]

Louisiana Energy Services, URENCO USA Facility

AGENCY: Nuclear Regulatory Commission.

ACTION: Inspection reports; issuance.

SUMMARY: The U.S. Nuclear Regulatory Commission (NRC) staff has conducted inspections of the Louisiana Energy Services, LLC, URENCO USA (UUSA) Facility in Eunice, New Mexico, and has authorized the Uranium Byproduct Cylinder Storage Pad Crane for use with non-enriched uranic material; the introduction of uranium hexafluoride (UF6) into cascades 5.1, 5.2, 5.3, 5.4, 5.5, 5.6, and 5.7; and the commencement of UF6 re-feed operations in cascades 5.1 through 5.7 in Separation Building Module-1005.

DATES: June 5, 2015.

ADDRESSES: Please refer to Docket ID NRC-2010-0264 when contacting the NRC about the availability of information regarding this document. You may access publicly-available information related to this document using any of the following methods:

• Federal Rulemaking Web site: Go to http://www.regulations.gov and search for Docket ID NRC-2010-0264. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Tilda Liu, Office of Nuclear Material Safety and Safeguards, U.S. Nuclear Regulatory Commission, Washington, DC 20555-0001; telephone: 404-997-4730; email: Tilda.Liu@nrc.gov.

SUPPLEMENTARY INFORMATION:

I. Further Information

The NRC staff has prepared inspection reports documenting its findings in accordance with the requirements of the NRC's Inspection Manual, and these reports are available for review as specified in Section II of this notice. The publication of this notice satisfies the requirements of Section 70.32(k) of Title 10 of the Code of Federal Regulations (10 CFR), and Section 193(c) of the Atomic Energy Act of 1954, as amended.

The introduction of UF6 into any separation building module (SBM) at the UUSA uranium enrichment facility is not permitted until the NRC completes an operational readiness and management measures verification review, to verify that management measures that ensure compliance with the performance requirements of 10 CFR 70.61 have been implemented, and confirms that the SBM has been constructed in accordance with the license and will be operated safely. Subsequent operational readiness and management measures verification reviews will continue throughout the planned future phases of construction and, upon completion of these subsequent phases, additional notices of the operation approval letters will be published in the Federal Register in accordance with 10 CFR 70.32(k).

II. Availability of Documents

The authorization letters and inspection reports identified in the following table are available to interested persons.

NRC Authorization Letters

Authorization letters | Date | ADAMS accession No.
Cascade 5.1 | February 6, 2015 | ML15037A054
Uranium Byproduct Cylinder Storage Pad Crane | February 19, 2015 | ML15050A282
Cascade 5.2 | February 20, 2015 | ML15051A028
Cascade 5.3 | March 2, 2015 | ML15063A003
Cascade 5.4 | March 12, 2015 | ML15071A364
Cascade 5.5 | April 7, 2015 | ML15097A278
Re-Feed Operations in Cascades 5.1 through 5.5 | April 9, 2015 | ML15099A487
Cascade 5.6 | April 29, 2015 | ML15119A189
Cascade 5.7 and Re-Feed Operations | May 26, 2015 | ML15146A123

NRC Inspection Reports

Inspection Report No. | Date | ADAMS accession No.
2014-005 | January 29, 2015 | ML15029A031
2015-002 | April 21, 2015 | ML15111A280
2015-006 | February 27, 2015 | ML15058A712

Dated at Rockville, Maryland, this 26th day of May, 2015.
For the Nuclear Regulatory Commission.
Thomas A. Grice,
Acting Chief, Enrichment and Conversion Branch, Division of Fuel Cycle Safety, Safeguards, and Environmental Review, Office of Nuclear Material Safety, and Safeguards.

[FR Doc. 2015-13810 Filed 6-4-15; 8:45 am]

BILLING CODE 7590-01-P